DEPARTMENT OF DEFENSE

Department of the Air Force

Notice and Request for Review/Comment of Changes to ICD-GPS-200C

AGENCY: Department of the Air Force, DoD.

SUMMARY: This notice informs the public that the Global Positioning System (GPS) Joint Program Office (JPO) proposes to revise ICD-GPS-200, Navstar GPS Space Segmen/Navigation User Interfaces, to include the description of the proposed L2C signal, to be transmitted at the L2 frequency (1227.6 MHz). These proposed changes are described in a Proposed Interface Revision Notice (PIRN): PIRN-200C-007 revision B. This revision B is an update from the last proposed revision A of the PIRN. The PIRN can be reviewed at the following web site: http://gps.losangeles.af.mil. Select “Configuration Management” and then “Public Data for Review.” Hyperlinks are provided to “PIRN-200C-007B (PDF)” and to review instructions. Reviewers should save the PIRN to a local memory location prior to opening and performing the review.

ADDRESSES: Submit comments to SMC/CZERC, 2420 Vela Way, Suite 1467, El Segundo, CA 90245-4659. A comment matrix is provided for your convenience at the web site and is the preferred method of comment submittal. Comments may be submitted to the following Internet address: smc.czerc@losangeles.af.mil. Comments may also be sent by fax to 1-310-363-6387.

DATES: The suspense date for comment submittal is December 9, 2002.

FOR FURTHER INFORMATION CONTACT: CZERC at 1-310-363-6329, GPSs JPO System Engineering Division, or write to the address above.

SUPPLEMENTARY INFORMATION: The civilian and military communities use the Global Positioning System which employs a constellation of 24 satellites to provide continuously transmitted signals to enable appropriately configured GPS user equipment to produce accurate position, navigation, and time information.

Pamela D. Fitzgerald,
Air Force Federal Register Liaison Officer.

[FR Doc. 02-29834 Filed 11-22-02; 8:45 am]

BILLING CODE 5001-05-P